DEPARTMENT OF TRANSPORTATION

Coast Guard

[USCG-2000-443]

Chemical Transportation Advisory Committee

AGENCY: Coast Guard, DOT.

ACTION: Notice of meeting.

SUMMARY: The Subcommittee of the Chemical Transportation Advisory Committee (CTAC) on the revalidation of recommendations for 46 CFR part 151 will meet to discuss the previous recommendations of CTAC.

DATES: The Subcommittee will meet on Wednesday, June 21, 2000, from 8:30 a.m. to 4 p.m. The meeting may close early if all business is finished. Written material and requests to make oral presentations should reach the Coast Guard on or before June 20, 2000. Requests to have a copy of your material distributed to each member of the committee or subcommittee should reach the Coast Guard on or before June 19, 2000.

ADDRESSES: The Subcommittee will meet in room 6103, U.S. Coast Guard Headquarters, 2100 Second Street SW, Washington, DC. Send written material and requests to make oral presentations to Commander Robert F. Corbin, Commandant (G-MSO-3), U.S. Coast Guard Headquarters, 2100 Second Street SW, Washington, DC 20593-0001.

FOR FURTHER INFORMATION CONTACT: Mr. Thomas J. Felleisen, Coast Guard Technical Representative to the Subcommittee, or Lieutenant Gregory F. Herold, Deputy Assistant to the Executive Director of CTAC, telephone 202-267-1217, fax 202-267-4570.

SUPPLEMENTARY INFORMATION: Notice of this meeting is given under the Federal Advisory Committee Act, 5 U.S.C. App. 2.

Agenda of Meeting

The agenda of the Subcommittee of the Chemical Transportation Advisory Committee (CTAC) on the revalidation of recommendations for 46 CFR part 151 includes the following:

(1) Introduction of the Subcommittee members.

(2) Review and discussion of CTAC's previous recommendations.

(3) Evaluation of the validity of the CTAC's previous recommendations.

(4) Discussions of the comments submitted on the ANPRM.

Procedural

The meeting is open to the public. Please note that the meeting may close early if all business is finished. All attendees at the meeting are encouraged to fully review CTAC's previous recommendations prior to the meeting; additional copies of CTAC's previous recommendations are available from the Deputy Assistant to CTAC. At the discretion of the Subcommittee Chair, members of the public may make oral presentations during the meeting. If you would like to make an oral presentation at the meeting, please notify the Coast Guard Technical Representative to the Subcommittee on or before June 20, 2000. If you would like a copy of your material distributed to each member of the committee or subcommittee in advance of a meeting, please submit 25 copies to the Coast Guard Technical Representative to the Subcommittee no later than June 19, 2000.

Information on Services for Individuals With Disabilities

For information on facilities or services for individuals with disabilities or to request special assistance at the meeting, contact the Deputy Assistant to the Executive Director of CTAC as soon as possible.

Dated: May 31, 2000.
Joseph J. Angelo,
Director of Standards, Marine Safety and Environmental Protection.

[FR Doc. 00-14276 Filed 6-6-00; 8:45 am]

BILLING CODE 4910-15-M